COMMITTEE FOR THE IMPLEMENTATION OF TEXTILE AGREEMENTS

Designations under the Textile and Apparel Short Supply Provision of the United States-Caribbean Basin Trade Partnership Act (CBTPA)

May 22, 2002.

AGENCY: Committee for the Implementation of Textile Agreements (CITA).

ACTION: Determination.

SUMMARY: The Committee for the Implementation of Textile Agreements (Committee) has determined, under the CBTPA, that yarn of combed cashmere, combed cashmere blends, or combed camel hair, classified in subheading 5108.20.60 of the Harmonized Tariff Schedule of the United States (HTS) for use in fabric for apparel, cannot be supplied by the domestic industry in commercial quantities in a timely manner. The Committee hereby designates apparel articles that are both cut and sewn in an eligible country, from fabric woven in the United States containing yarn of combed cashmere, combed cashmere blend, or combed camel hair not formed in the United States, as eligible for quota-free and duty-free treatment under the textile and apparel short supply provisions of the CBTPA, and eligible under HTS subheading 9820.11.27 to enter free of quotas and duties, provided all other yarns are U.S. formed and all other fabrics are U.S. formed from yarns wholly formed in the U.S.

FOR FURTHER INFORMATION CONTACT: Martin J. Walsh, Office of Textiles and Apparel, U.S. Department of Commerce, (202) 482-3400.

SUPPLEMENTARY INFORMATION:

Authority: Section 211 of the CBTPA, amending Section 213(b)(2)(A)(v)(II) of the Caribbean Basin Economic Recovery Act (CBERA); Presidential Proclamation 7351 of October 2, 2000; Executive Order No. 13191 of January 17, 2001.

Background

The short supply provision of the CBTPA provides for duty-free and quota-free treatment for apparel articles that are both cut (or knit-to-shape) and sewn or otherwise assembled in one or more beneficiary CBTPA country from fabric or yarn that is not formed in the United States or a beneficiary CBTPA country if it has been determined that such yarns or fabrics cannot be supplied by the domestic industry in commercial quantities in a timely manner and certain procedural requirements have been met. In Presidential Proclamation 7351, the President proclaimed that this treatment would apply to such apparel articles from fabrics or yarns designated by the appropriate U.S. government authority in the Federal Register. In Executive Order 13191, the President authorized the Committee to determine whether particular yarns or fabrics cannot be supplied by the domestic industry in commercial quantities in a timely manner.

On January 4, 2002, the Committee received a request alleging that yarn of combed cashmere, combed cashmere blends, or combed camel hair, classified in subheading 5108.20.60 of the HTS for use in fabric for apparel, cannot be supplied by the domestic industry in commercial quantities in a timely manner under the CBTPA and requesting that apparel articles from U.S. formed-fabric containing such yarns be eligible for preferential treatment under the CBPTA. On January 10, 2002, the Committee published a notice in the Federal Register requesting public comment on the request (67 FR 1330). On January 29, 2002, the Committee and the U.S. Trade Representative (USTR) sought the advice of the Industry Sector Advisory Committee for Wholesaling and Retailing and the Industry Sector Advisory Committee for Textiles and Apparel. On January 29, 2002, the Committee and USTR offered to hold consultations with the Committee on Ways and Means of the House of Representatives and the Committee on Finance of the Senate (collectively, the Congressional Committees). On February 15, 2002, the U.S. International Trade Commission provided advice on the request. Based on the information and advice received and its understanding of the industry, the Committee determined that the yarn set forth in the request cannot be supplied by the domestic industry in commercial quantities in a timely manner. On March 5, 2002, the Committee and USTR submitted a report to the Congressional Committees that set forth the action proposed, the reasons for such action, and advice obtained. A period of 60 calendar days since this report was submitted has expired, as required by the CBTPA.

The Committee hereby designates as eligible for preferential treatment under subheading 9820.11.27 of the HTS apparel articles that are both cut and sewn in one or more eligible CBTPA beneficiary countries from fabric woven in the United States containing yarn of combed cashmere, combed cashmere blends, or combed camel hair, classified in subheading 5108.20.60 in the HTS, not formed in the United States, provided that all other yarns are wholly formed in the United States and that all fabrics are wholly formed in the United States, that are imported directly into the customs territory of the United States from an eligible CBTPA beneficiary country. An article otherwise eligible for preferential treatment under this designation shall not be ineligible for such treatment because the article contains findings, trimmings, certain interlinings, or deminimus foreign yarn, as specified in Section 213(b)(2)(A)(vii)(I), (II), and (III) of the CBTPA.

An “eligible CBTPA beneficiary country” means a country which the President has designated as a CBTPA beneficiary country under section 213(b)(5)(B) of the CBERA (19 U.S.C. 2703(b)(5)(B)) and which has been the subject of a finding, published in the Federal Register, that the country has satisfied the requirements of section 213(b)(4)(A)(ii) of the CBERA (19 U.S.C. 2703(b)(4)(A)(ii)) and resulting in the enumeration of such country in U.S. note 1 to subchapter XX of chapter 98 of the HTS.

James C. Leonard III,
Chairman, Committee for the Implementation of Textile Agreements.

[FR Doc. 02-13273 Filed 5-24-02; 8:45 am]

BILLING CODE 3510-DR-S